Proclamation 10842 of October 18, 2024

National Character Counts Week, 2024

By the President of the United States of America

A Proclamation

In the Oval Office, I sit surrounded by portraits of exceptional American Presidents and busts of inspiring American leaders. They remind me each and every day that we are a Nation of dreamers and doers, of promise and possibilities, and of ordinary Americans doing extraordinary things. Above all, we are a Nation of good people, who show our kindness and character through small acts every single day. This National Character Counts Week, we celebrate the core values of decency, honesty, dignity, and equality that have long defined the character of America.

Our Nation is strong, and our future is bright—in large part because of the upstanding character that resides within all Americans. I have witnessed it up close in educators like the First Lady, who inspire our Nation's youth to reach for every possibility; mothers, fathers, and parental figures who raise their children with care, courage, and grit; first responders, who run toward danger to protect others; union workers, who are building America; and brave service members, who stand on the frontlines of freedom to defend our democracy. Across the country, American workers are writing the greatest comeback story we have ever known—restoring pride in our hometowns, pride in America, and pride in knowing we can get big things done when we work together.

Since I came into office, my Administration has taken large strides toward building an America that lives up to those values. The American Rescue Plan helped keep child care programs open, families in their homes, and small businesses on their feet. We set a record for Federal contract spending on small businesses. Our historic investments across the clean energy economy are helping to combat climate change and create good-paying jobs. Through the American Rescue Plan and Bipartisan Safer Communities Act, we have made significant investments in reducing crime, preventing gun violence, and saving lives, and last year, we saw one of the lowest rates of violent crime in more than 50 years. We are also ensuring that America is a Nation where everyone is respected and where we give hate no safe harbor. That is why I signed the COVID-19 Hate Crimes Act, making it easier to report hate crimes, and hosted the United We Stand Summit to counter the corrosive effects of hate-fueled violence. My Administration continues to work to counter antisemitism, Islamophobia, and hate in all its forms and ensure that everyone is treated with dignity and respect.

Under my Unity Agenda, we are tackling the opioid epidemic and mental health crisis, holding Big Tech accountable, supporting our veterans and their families, and ending cancer as we know it. We are investing more than $1 billion to help schools across the country train and hire new mental health counselors through the Bipartisan Safer Communities Act, we have granted new disability benefits to over one million veterans and their families under the PACT Act, and we launched the Advanced Research Projects Agency for Health to fast-track progress on how we prevent, detect, and treat cancer and other diseases.

My father taught me that our character is not measured by how many times or how hard we get knocked down but by how quickly we get back up. Even in the face of challenges ahead and obstacles in our way, Americans always get back up. It is what drives our great country forward and what makes our Nation strong. This week and every week, let us recommit to upholding our most essential values and remember that the sacred task of perfecting our Union is not just about any one of us but about “We the People.”

NOW, THEREFORE, I, JOSEPH R. BIDEN JR., President of the United States of America, by virtue of the authority vested in me by the Constitution and the laws of the United States, do hereby proclaim October 20 through October 26, 2024, as National Character Counts Week. Now and throughout the year, I encourage all Americans to engage in efforts that honor and express the best attributes of our character, extend a hand of fellowship to their neighbors, and unite in service to their communities.

IN WITNESS WHEREOF, I have hereunto set my hand this eighteenth day of October, in the year of our Lord two thousand twenty-four, and of the Independence of the United States of America the two hundred and forty-ninth.

[FR Doc. 2024-24760

Filed 10-22-24; 8:45 am]

Billing code 3395-F4-P